DEPARTMENT OF THE INTERIOR

National Park Service

[NPS-NCR-POHE-0911-7946; 3991-0101-SZS]

Notice of Availability, Potomac Heritage National Scenic Trail

AGENCY: National Park Service, Interior.

ACTION: Notice of Availability of a “Foundation for Planning, Administration, Management and Interpretation of Potomac Heritage National Scenic Trail Segments and for Coordination among Trail Segment Management Partners.”

SUMMARY: Pursuant to the National Trails System Act of 1968 (as amended), the National Park Service (NPS) announces the availability of a “Foundation for Planning, Administration, Management and Interpretation of Potomac Heritage National Scenic Trail Segments and for Coordination among Trail Segment Management Partners (Foundation).” This document is intended to serve as a resource for NPS staff and Potomac Heritage National Scenic Trail (Trail) segment management partners and to help create continuity of experience throughout the Trail network.

DATES: The “Foundation” is available for review and reference on the NPS Web site as of January 11, 2012.

ADDRESSES: The “Foundation” and appendices are available online at http://www.nps.gov/pohe/parkmgmt/planning.htm.

FOR FURTHER INFORMATION CONTACT: Donald E. Briggs, Superintendent, Potomac Heritage National Scenic Trail, National Capital Region, National Park Service, at (304) 535-4016 or by email at don_briggs@nps.gov.

SUPPLEMENTARY INFORMATION: In 1983, based on a feasibility study completed by the Bureau of Outdoor Recreation in 1974, Congress amended the National Trails System Act of 1968, designating a corridor for the Trail between the mouth of the Potomac River and the Allegheny Highlands in western Pennsylvania. Based on extensive coordination among the staff of local, regional, state and other federal agencies; representatives of non-profit organizations; volunteers; and other Trail stakeholders, the Trail network today includes over 830 miles of existing and planned Trail segments for non-motorized travel. Communities have invested in the Trail concept for a variety of reasons, including a desire to increase opportunities for outdoor recreation, non-motorized transportation, education and/or heritage tourism.

The Foundation assembles in one document decisions and recommendations made over the past 11 years and establishes a basis for future local, regional, state and Federal planning; NPS administration of the Federal interest in the Trail; management of individual Trail segments, including Trail segment marking; interpretation; coordination among Trail management partners; and creating “continuity of experience” through the diverse Trail network.

The document recognizes a change in authorizing legislation—Trail segments are recognized through cooperative management agreements between the NPS and Trail segment management partners, replacing an application process—and emphasizes that Trail blazes, where used to mark Trail routes, should employ a color used in the official Trail marker. The Foundation, along with regional and state plans to be added in the future as appendices, will serve as a comprehensive management plan for the Trail network, will reflect accurately the Trail as a set of partnerships, and will provide a means to address efficiently the need for adaptive planning and management.

Dated: July 21, 2011.
Stephen E. Whitesell
Regional Director, National Capital Region.

[FR Doc. 2012-280 Filed 1-10-12; 8:45 am]

BILLING CODE P